DEPARTMENT OF STATE

22 CFR Parts 41 and 42

[Public Notice 6798]

Visas: Documentation of Immigrants and Nonimmigrants—Visa Classification Symbols

AGENCY: State Department.

ACTION: Final rule.

SUMMARY: The Department is amending its regulations to add new classification symbols to the immigrant and nonimmigrant classification tables. This amendment is necessary to implement legislation that created additional immigrant and nonimmigrant classifications as described herein. Additionally, the Department is amending or removing existing classifications that have changed as a result of new legislation or the expiration of legislative provisions that had temporarily authorized them.

DATES: This rule is effective November 25, 2009.

FOR FURTHER INFORMATION CONTACT: Emily C. Cooperman, Legislation and Regulations Division, Visa Services, U.S. Department of State, Washington, DC 20520-0106, phone (202) 663-1203.

SUPPLEMENTARY INFORMATION:

Which new immigrant classification symbol is being added?

A new immigrant classification for qualifying family members of U1 Nonimmigrant Victim of Criminal Activity, adjustment of status cases for: Spouse, SU2; Child, SU3; and Parent, SU5.

What is the background for the new immigrant classifications (SU2, SU3, SU5) for qualifying family members of U1 Nonimmigrants?

Under INA 245(m)(3), upon approval of adjustment of the status of a U1 principal alien, the Secretary of Homeland Security may approve a petition for an immigrant visa for a spouse (SU2), a child (SU3), or in the case of an alien child, a parent (SU5) who did not receive a nonimmigrant visa under section 101(a)(15)(U)(ii) if the Secretary of Homeland Security considers such approval necessary to avoid extreme hardship. To request approval of immigrant visa status for such a relative, the principal alien must file with U.S. Citizenship and Immigration Services (USCIS) a Form I-929, Petition for Qualifying Family Member of a U1 Nonimmigrant. Upon approval of the petition, beneficiaries may apply for an immigrant visa at a visa processing post overseas.

Which immigrant classification is being amended due to new legislation?

Certain Iraqis (and Afghanis) employed by or on behalf of the United States Government in Iraq (and Afghanistan), SQ1; Spouse SQ2 and Child SQ3.

What is the background for the amended immigrant visa classifications SQ1, SQ2, SQ3?

In addition to Iraqis employed by or on behalf of the United States Government in Iraq, section 1244 of Public Law 110-181, section 602(b) of Division F, Title IV, of the Omnibus Appropriations Act, 2009, Public Law 111-8, authorizes SQ1 status for an Afghan national who has been employed by or on behalf of the United States Government in Afghanistan on or after October 7, 2001, for a period of not less than one year; has provided faithful and valuable service to the United States Government, which is documented in a positive recommendation or evaluation from the alien's senior supervisor; has been determined by the Chief of Mission (COM) or the COM's designee to have experienced, or be experiencing an ongoing serious threat as a consequence of the employment by or on behalf of the U.S. Government. Further, the alien must clear a background check and appropriate screening as determined by the Department of Homeland Security, be otherwise eligible to receive an immigrant visa, and be otherwise admissible to the United States for permanent residence, except that, in the determination of such admissibility, the grounds for inadmissibility specified in INA 212(a)(4) (8 U.S.C. 1182(a)(4)) relating to “public charge” shall not apply.

Which nonimmigrant classification symbols are being added?

The new nonimmigrant classification symbols are for: Temporary Commonwealth of the Northern Mariana Islands (CNMI)-only transitional workers (CW1, CW2); and Long-Term Investors in the Commonwealth of the Northern Mariana Islands (E2C).

What is the background for the new nonimmigrant classification (CW1 & CW2) for a CNMI transitional worker?

The Department of Homeland Security (DHS) created a new, temporary, CNMI-only transitional worker classification (CW) in accordance with title VII of the Consolidated Natural Resources Act of 2008 (CNRA), Public Law 110-229, that will be implemented beginning November 28, 2009. The transitional worker program is intended to provide for an orderly transition from the CNMI permit system to the U.S. federal immigration system under the INA. A CW transitional worker is an alien worker who is ineligible for another classification under the INA and who performs services or labor for an employer in the CNMI. The CNRA imposes a five-year transition period before the INA requirements become fully applicable in the CNMI. The new CW classification (CW1 for principal transitional workers and CW2 for dependents) will be in effect for the duration of the transition period, unless extended by the Secretary of Labor.

What is the background for the new nonimmigrant classification (E2C CNMI) for a nonimmigrant investor?

The Department of Homeland Security is amending its regulations governing E2 nonimmigrant treaty investors to establish procedures for classifying long-term investors in the CNMI as E2C nonimmigrants. The DHS rule implements the CNMI nonimmigrant investor visa provisions of the CNRA extending the immigration laws of the United States to the CNMI. Among the CNMI-specific provisions applicable during the five-year transition period is a provision authorizing the Secretary of Homeland Security to classify an alien foreign investor in the CNMI as a CNMI-only E2C nonimmigrant investor under section 101(a)(15)(E)(ii) of the INA. This status is provided upon application of the alien and notwithstanding the treaty requirements otherwise applicable. Eligible investors are those who: were admitted to the CNMI in long-term investor status under CNMI immigration law before the transition program effective date; have continuously maintained residence in the CNMI under long-term investor status; are otherwise admissible to the United States under the INA; and maintain the investment(s) that formed the basis for the CNMI long-term investor status.

Why is the Department amending and removing the age restrictions for the T4 & T5 Nonimmigrant visa classes?

Section 201 of the William Wilberforce Trafficking Victims Protection Reauthorization Act of 2008, Public Law 110-457, amended section 101(a)(15)(T)(ii) of the INA to provide for T4 and T5 derivative status for any accompanying or following to join parent or unmarried sibling under the age of 18 of an alien who has been accorded T1 status as a victim of trafficking if the Secretary of Homeland Security determines that the parent or sibling faces a present danger of retaliation as a result of the victim's escape from the severe form of trafficking or cooperation with law enforcement. This provision applies without regard to the age of the T1 principal, and is in addition to existing authority in INA 101(a)(15)(T)(ii)(I) for T4 and T5 status for accompanying or following to join parents and unmarried siblings under age 18 of a principal alien who was under the age of 21 as of the date of the principal's application for T1 status. If the principal alien was under the age of 21 at the time of his or her application for T1 status, the parents and any unmarried sibling under 18 who are accompanying or following to join the principal would be entitled to T4 and T5 classification without a DHS determination that they face a present danger of retaliation.

What Classifications are being removed?

The Nonimmigrant Visa class “Irish Peace Process Program Participant;” Q2, and the Spouse or Child of the Q2, Q3.

Why are the Q2 and Q3 Classifications being removed?

Section 1(d) of Public Law 108-449 repealed the “Irish Peace Process Cultural and Training Program Act of 1998, Public Law 105-319, effective October 1, 2008.

Regulatory Findings

Administrative Procedure Act

This regulation involves a foreign affairs function of the United States and, therefore, in accordance with 5 U.S.C. 553(a)(1), is not subject to the rule making procedures set forth at 5 U.S.C. 553.

Regulatory Flexibility Act/Executive Order 13273: Small Business

Because this final rule is exempt from notice and comment rulemaking under 5 U.S.C. 553, it is exempt from the regulatory flexibility analysis requirements set forth at sections 603 and 604 of the Regulatory Flexibility Act (5 U.S.C. 603 and 604). Nonetheless, consistent with section 605(b) of the Regulatory Flexibility Act (5 U.S.C. 605(b)), the Department certifies that this rule will not have a significant economic impact on a substantial number of small entities. This regulates individual aliens who seek consideration for immigrant and nonimmigrant visas and does not affect any small entities, as defined in 5 U.S.C. 601(6).

The Unfunded Mandates Reform Act of 1995

Section 202 of the Unfunded Mandates Reform Act of 1995, Public Law 104-4, 109 Stat. 48, 2 U.S.C. 1532, generally requires agencies to prepare a statement before proposing any rule that may result in an annual expenditure of $100 million or more by State, local, or tribal governments, or by the private sector. This rule will not result in any such expenditure, nor will it significantly or uniquely affect small governments.

The Small Business Regulatory Enforcement Fairness Act of 1996

This rule is not a major rule as defined by 5 U.S.C. 804, for purposes of congressional review of agency rulemaking under the Small Business Regulatory Enforcement Fairness Act of 1996, Public Law 104-121. This rule will not result in an annual effect on the economy of $100 million or more; a major increase in costs or prices; or adverse effects on competition, employment, investment, productivity, innovation, or on the ability of United States-based companies to compete with foreign-based companies in domestic and import markets.

Executive Order 12866

The Department of State has reviewed this rule to ensure its consistency with the regulatory philosophy and principles set forth in Executive Order 12866 and has determined that the benefits of the regulation justify its costs. The Department does not consider the rule to be an economically significant action within the scope of section 3(f)(1) of the Executive Order since it is not likely to have an annual effect on the economy of $100 million or more or to adversely affect in a material way the economy, a sector of the economy, competition, jobs, the environment, public health or safety, or State, local or tribal governments or communities.

Executive Orders 12372 and 13132: Federalism

This regulation will not have substantial direct effects on the States, on the relationship between the national government and the States, or the distribution of power and responsibilities among the various levels of government. Nor will the rule have federalism implications warranting the application of Executive Orders No. 12372 and No. 13132.

Executive Order 12988: Civil Justice Reform

The Department has reviewed the regulations in light of sections 3(a) and 3(b)(2) of Executive Order No. 12988 to eliminate ambiguity, minimize litigation, establish clear legal standards, and reduce burden.

Paperwork Reduction Act

This rule does not impose information collection requirements under the provisions of the Paperwork Reduction Act, 44 U.S.C. Chapter 35.

List of Subjects

22 CFR Part 41

Aliens, Foreign Officials, Immigration, Nonimmigrants, Passports and Visas.

22 CFR Part 42

Immigration, Passports, Visas.

For the reasons stated in the preamble, the Department of State amends 22 CFR Parts 41 and 42 as follows:

PART 41—[AMENDED]

1. The authority citation for Part 41 continues to read as follows:

Authority: 8 U.S.C. 1104; Pub. L. 105-277, 112 Stat. 2681-795 through 2681-801.

2. Revise § 41.12 to read as follows:

§ 41.12 Classification symbols.

A visa issued to a nonimmigrant alien within one of the classes described in this section shall bear an appropriate visa symbol to show the classification of the alien. The symbol shall be inserted in the space provided on the visa. The following visa symbols shall be used:

Nonimmigrants
Symbol | Class | Section of law
A1 | Ambassador, Public Minister, Career Diplomat or Consular Officer, or Immediate Family | 101(a)(15)(A)(i).
A2 | Other Foreign Government Official or Employee, or Immediate Family | 101(a)(15)(A)(ii).
A3 | Attendant, Servant, or Personal Employee of A1 or A2, or Immediate Family | 101(a)(15)(A)(iii).
B1 | Temporary Visitor for Business | 101(a)(15)(B).
B2 | Temporary Visitor for Pleasure | 101(a)(15)(B).
B1/B2 | Temporary Visitor for Business & Pleasure | 101(a)(15)(B).
C1 | Alien in Transit | 101(a)(15)(C).
C1/D | Combined Transit and Crewmember Visa | 101(a)(15)(C) and (D).
C2 | Alien in Transit to United Nations Headquarters District Under Sec. 11.(3), (4), or (5) of the Headquarters Agreement | 101(a)(15)(C).
C3 | Foreign Government Official, Immediate Family, Attendant, Servant or Personal Employee, in Transit | 212(d)(8).
CW1 | Commonwealth of Northern Mariana Islands Transitional Worker | Section 6(d) of Pub. L. 94-241, as added by sec. 702(a) of Pub. L. 110-229.
CW2 | Spouse or Child of CW1 | Section 6(d) of Pub. L. 94-241, as added by sec. 702(a) of Pub. L. 110-229.
D | Crewmember (Sea or Air) | 101(a)(15)(D).
E1 | Treaty Trader, Spouse or Child | 101(a)(15)(E)(i).
E2 | Treaty Investor, Spouse or Child | 101(a)(15)(E)(ii).
E2C | Commonwealth of Northern Mariana Islands Investor, Spouse or Child | Section 6(c) of Pub. L. 94-241, as added by sec. 702(a) of Pub. L. 110-229.
E3 | Australian Treaty Alien coming to the United States Solely to Perform Services in a Specialty Occupation | 101(a)(15)(E)(iii).
E3D | Spouse or Child of E3 | 101(a)(15)(E)(iii).
E3R | Returning E3 | 101(a)(15)(E)(iii).
F1 | Student in an academic or language training program | 101(a)(15)(F)(i).
F2 | Spouse or Child of F1 | 101(a)(15)(F)(ii).
F3 | Canadian or Mexican national commuter student in an academic or language training program | 101(a)(15)(F)(iii).
G1 | Principal Resident Representative of Recognized Foreign Government to International Organization, Staff, or Immediate Family | 101(a)(15)(G)(i).
G2 | Other Representative of Recognized Foreign Member Government to International Organization, or Immediate Family | 101(a)(15)(G)(ii).
G3 | Representative of Nonrecognized or Nonmember Foreign Government to International Organization, or Immediate Family | 101(a)(15)(G)(iii).
G4 | International Organization Officer or Employee, or Immediate Family | 101(a)(15)(G)(iv).
G5 | Attendant, Servant, or Personal Employee of G1 through G4, or Immediate Family | 101(a)(15)(G)(v).
H1B | Alien in a Specialty Occupation (Profession) | 101(a)(15)(H)(i)(b).
H1B1 | Chilean or Singaporean National to Work in a Specialty Occupation | 101(a)(15)(H)(i)(b1).
H1C | Nurse in health professional shortage area | 101(a)(15)(H)(i)(c).
H2A | Temporary Worker Performing Agricultural Services Unavailable in the United States | 101(a)(15)(H)(ii)(a).
H2B | Temporary Worker Performing Other Services Unavailable in the United States | 101(a)(15)(H)(ii)(b).
H3 | Trainee | 101(a)(15)(H)(iii).
H4 | Spouse or Child of Alien Classified H1B/B1/C, H2A/B, or H-3 | 101(a)(15)(H)(iv).
I | Representative of Foreign Information Media, Spouse and Child | 101(a)(15)(I).
J1 | Exchange Visitor | 101(a)(15)(J).
J2 | Spouse or Child of J1 | 101(a)(15)(J).
K1 | Fiance(e) of United States Citizen | 101(a)(15)(K)(i).
K2 | Child of Fiance(e) of U.S. Citizen | 101(a)(15)(K)(iii).
K3 | Spouse of U.S. citizen awaiting availability of immigrant visa | 101(a)(15)(K)(ii).
K4 | Child of K3 | 101(a)(15)(K)(iii).
L1 | Intracompany Transferee (Executive, Managerial, and Specialized Knowledge Personnel Continuing Employment with International Firm or Corporation) | 101(a)(15)(L).
L2 | Spouse or Child of Intracompany Transferee | 101(a)(15)(L).
M1 | Vocational Student or Other Nonacademic Student | 101(a)(15)(M)(i).
M2 | Spouse or Child of M1 | 101(a)(15)(M)(ii).
M3 | Canadian or Mexican national commuter student (Vocational student or other nonacademic student) | 101(a)(15)(M)(iii).
N8 | Parent of an Alien Classified SK3 or SN3 | 101(a)(15)(N)(i).
N9 | Child of N8 or of SK1, SK2, SK4, SN1, SN2 or SN4 | 101(a)(15)(N)(ii).
NATO 1 | Principal Permanent Representative of Member State to NATO (including any of its Subsidiary Bodies) Resident in the U.S. and Resident Members of Official Staff; Secretary General, Assistant Secretaries General, and Executive Secretary of NATO; Other Permanent NATO Officials of Similar Rank, or Immediate Family | Art. 12, 5 UST 1094; Art. 20, 5 UST 1098.
NATO 2 | Other Representative of member state to NATO (including any of its Subsidiary Bodies) including Representatives, Advisers, and Technical Experts of Delegations, or Immediate Family; Dependents of Member of a Force Entering in Accordance with the Provisions of the NATO Status-of-Forces Agreement or in Accordance with the provisions of the “Protocol on the Status of International Military Headquarters”; Members of Such a Force if Issued Visas | Art. 13, 5 UST 1094; Art. 1, 4 UST 1794; Art. 3, 4 UST 1796.
NATO 3 | Official Clerical Staff Accompanying Representative of Member State to NATO (including any of its Subsidiary Bodies), or Immediate Family | Art. 14, 5 UST 1096.
NATO 4 | Official of NATO (Other Than Those Classifiable as NATO1), or Immediate Family | Art. 18, 5 UST 1098.
NATO 5 | Experts, Other Than NATO Officials Classifiable Under NATO4, Employed in Missions on Behalf of NATO, and their Dependents | Art. 21, 5 UST 1100.
NATO 6 | Member of a Civilian Component Accompanying a Force Entering in Accordance with the Provisions of the NATO Status-of-Forces Agreement; Member of a Civilian Component Attached to or Employed by an Allied Headquarters Under the “Protocol on the Status of International Military Headquarters” Set Up Pursuant to the North Atlantic Treaty; and their Dependents | Art. 1, 4 UST 1794; Art. 3, 5 UST 877.
NATO 7 | Attendant, Servant, or Personal Employee of NATO1, NATO2, NATO 3, NATO4, NATO5, and NATO6 Classes, or Immediate Family | Arts. 12-20, 5 UST 1094-1098.
O1 | Alien with Extraordinary Ability in Sciences, Arts, Education, Business or Athletics | 101(a)(15)(O)(i).
O2 | Alien Accompanying and Assisting in the Artistic or Athletic Performance by O1 | 101(a)(15)(O)(ii).
O3 | Spouse or Child of O1 or O2 | 101(a)(15)(O)(iii).
P1 | Internationally Recognized Athlete or Member of Internationally Recognized Entertainment Group | 101(a)(15)(P)(i).
P2 | Artist or Entertainer in a Reciprocal Exchange Program | 101(a)(15)(P)(ii).
P3 | Artist or Entertainer in a Culturally Unique Program | 101(a)(15)(P)(iii).
P4 | Spouse or Child of P1, P2, or P3 | 101(a)(15)(P)(iv).
Q1 | Participant in an International Cultural Exchange Program | 101(a)(15)(Q)(i).
R1 | Alien in a Religious Occupation | 101(a)(15)(R).
R2 | Spouse or Child of R1 | 101(a)(15)(R).
S5 | Certain Aliens Supplying Critical Information Relating to a Criminal Organization or Enterprise | 101(a)(15)(S)(i).
S6 | Certain Aliens Supplying Critical Information Relating to Terrorism | 101(a)(15)(S)(ii).
S7 | Qualified Family Member of S5 or S6 | 101(a)(15)(S).
T1 | Victim of a severe form of trafficking in persons | 101(a)(15)(T)(i).
T2 | Spouse of T1 | 101(a)(15)(T)(ii).
T3 | Child of T1 | 101(a)(15)(T)(ii).
T4 | Parent of T1 | 101(a)(15)(T)(ii).
T5 | Unmarried Sibling under age 18 of T1 | 101(a)(15)(T)(ii) as amended by sec. 201(a) of Pub. L. 110-457.
TN | NAFTA Professional | 214(e)(2).
TD | Spouse or Child of NAFTA Professional | 214(e)(2).
U1 | Victim of criminal activity | 101(a)(15)(U)(i).
U2 | Spouse of U1 | 101(a)(15)(U)(ii).
U3 | Child of U1 | 101(a)(15)(U)(ii).
U4 | Parent of U1 under 21 years of age | 101(a)(15)(U)(ii).
U5 | Unmarried Sibling under age 18 of U1 under 21 years of age | 101(a)(15)(U)(ii).
V1 | Spouse of a Lawful Permanent Resident Alien Awaiting Availability of Immigrant Visa | 101(a)(15)(V)(i) or 101(a)(15)(V)(ii).
V2 | Child of a Lawful Permanent Resident Alien Awaiting Availability of Immigrant Visa | 101(a)(15)(V)(i) or 101(a)(15)(V)(ii).
V3 | Child of a V1 or V2 | 203(d) & 101(a)(15)(V)(i) or 101(a)(15)(V)(ii).

PART 42—[AMENDED]

3. The authority citation for Part 42 continues to read as follows:

Authority: 8 U.S.C. 1104; Pub. L. 107-56, sec. 421.

4. Revise § 42.11 to read as follows:

§ 42.11 Classification symbols.

A visa issued to an immigrant alien within one of the classes described below shall bear an appropriate visa symbol to show the classification of the alien.

Immigrants
Symbol | Class | Section of law
Immediate Relatives
IR1 | Spouse of U.S. Citizen | 201(b).
IR2 | Child of U.S. Citizen | 201(b).
IR3 | Orphan Adopted Abroad by U.S. Citizen | 201(b) & 101(b)(1)(F).
IH3 | Child from Hague Convention Country Adopted Abroad by U.S. Citizen | 201(b) & 101(b)(1)(G).
IR4 | Orphan to be Adopted in U.S. by U.S. Citizen | 201(b) & 101(b)(1)(F).
IH4 | Child from Hague Convention Country to be Adopted in U.S. by U.S. Citizen | 201(b) & 101(b)(1)(G).
IR5 | Parent of U.S. Citizen at Least 21 Years of Age | 201(b).
CR1 | Spouse of U.S. Citizen (Conditional Status) | 201(b) & 216.
CR2 | Child of U.S. Citizen (Conditional Status) | 201(b) & 216.
IW1 | Certain Spouses of Deceased U.S. Citizens | 201(b).
IW2 | Child of IW1 | 201(b).
IB1 | Self-petition Spouse of U.S. Citizen | 204(a)(1)(A)(iii).
IB2 | Self-petition child of U.S. Citizen | 204(a)(1)(A)(iv).
IB3 | Child of IB1 | 204(a)(1)(A)(iii).
VI5 | Parent of U.S. Citizen Who Acquired Permanent Resident Status Under the Virgin Islands Nonimmigrant Alien Adjustment Act | 201(b) & sec. 2 of the Virgin Islands Nonimmigrant Alien Adjustment Act, (Pub. L. 97-271).
Vietnam Amerasian Immigrants
AM1 | Vietnam Amerasian Principal | 584(b)(1)(A) of the Foreign Operations, Export Financing, and Related Programs Appropriations Act, 1988 (as contained in section 101(e) of Pub. L. 100-102) as amended.
AM2 | Spouse or Child of AM1 | 584(b)(1)(A) and 584(b)(1)(B) of the Foreign Operations, Export Financing, and Related Programs Appropriations Act, 1988 (as contained in section 101(e) of Public Law 100-102) as amended.
AM3 | Natural Mother of AM1 (and Spouse or Child of Such Mother) or Person Who has Acted in Effect as the Mother, Father, or Next-of-Kin of AM1 (and Spouse or Child of Such Person) | 584(b)(1)(A) and 584(b)(1)(C) of the Foreign Operations, Export Financing, and Related Programs Appropriations Act, 1988 (as contained in section 101(e) of Public Law 100-102) as amended.
Special Immigrants
SB1 | Returning Resident | 101(a)(27)(A).
SC1 | Person Who Lost U.S. Citizenship by Marriage | 101(a)(27)(B) & 324(a).
SC2 | Person Who Lost U.S. Citizenship by Serving in Foreign Armed Forces | 101(a)(27)(B) & 327.
SI1 | Certain Aliens Employed by the U.S. Government in Iraq or Afghanistan as Translators or Interpreters | Section 1059 of Pub. L. 109-163 as amended by Pub. L. 110-36.
SI2 | Spouse of SI1 | Section 1059 of Pub. L. 109-163 as amended by Pub. L. 110-36.
SI3 | Child of SI1 | Section 1059 of Pub. L. 109-163 as amended by Pub. L. 110-36.
SM1 | Alien Recruited Outside the United States Who Has Served or is Enlisted to Serve in the U.S. Armed Forces for 12 Years | 101(a)(27)(K).
SM2 | Spouse of SM1 | 101(a)(27)(K).
SM3 | Child of SM1 | 101(a)(27)(K).
SQ1 | Certain Iraqis or Afghans Employed by or on Behalf of the U.S. Government | Section 602(b), Division F, Title VI, Omnibus Appropriations Act of 2009, Pub. L. 111-8 and Section 1244 of Pub. L. 110-181.
SQ2 | Spouse of SQ1 | Section 602(b), Division F, Title VI, Omnibus Appropriations Act of 2009, Pub. L. 111-8 and Section 1244 of Pub. L. 110-181.
SQ3 | Child of SQ1 | Section 602(b), Division F, Title VI, Omnibus Appropriations Act of 2009, Pub. L. 111-8 and Section 1244 of Pub. L. 110-181.
SU2 | Spouse of U1 | INA 245(m)(3) & INA 101(a)(15)(U)(ii).
SU3 | Child of U1 | INA 245(m)(3) & INA 101(a)(15)(U)(ii).
SU5 | Parent of U1 | INA 245(m)(3) & INA 101(a)(15)(U)(ii).
Family-Sponsored Preferences
Family 1st Preference
F11 | Unmarried Son or Daughter of U.S. Citizen | 203(a)(1).
F12 | Child of F11 | 203(d) & 203(a)(1).
B11 | Self-petition Unmarried Son or Daughter of U.S. Citizen | 204(a)(1)(A)(iv) & 203(a)(1).
B12 | Child of B11 | 203(d), 204(a)(1)(A)(iv) & 203(a)(1).
Family 2nd Preference (Subject to Country Limitations)
F21 | Spouse of Lawful Permanent Resident | 203(a)(2)(A).
F22 | Child of Lawful Permanent Resident | 203(a)(2)(A).
F23 | Child of F21 or F22 | 203(d) & 203(a)(2)(A).
F24 | Unmarried Son or Daughter of Lawful Permanent Resident | 203(a)(2)(B).
F25 | Child of F24 | 203(d) & 203(a)(2)(B).
C21 | Spouse of Lawful Permanent Resident (Conditional) | 203(a)(2)(A) & 216.
C22 | Child of Alien Resident (Conditional) | 203(a)(2)(A) & 216.
C23 | Child of C21 or C22 (Conditional) | 203(d) & 203(a)(2)(A) & 216.
C24 | Unmarried Son or Daughter of Lawful Permanent Resident (Conditional) | 203(a)(2)(B) & 216.
C25 | Child of F24 (Conditional) | 203(d) & 203(a)(2)(B) & 216.
B21 | Self-petition Spouse of Lawful Permanent Resident | 204(a)(1)(B)(ii).
B22 | Self-petition Child of Lawful Permanent Resident | 204(a)(1)(B)(iii).
B23 | Child of B21 or B22 | 203(d) & 204(a)(1)(B)(ii).
B24 | Self-petition Unmarried Son or Daughter of Lawful Permanent Resident | 204(a)(1)(B)(iii).
B25 | Child of B24 | 203(d) & 204(a)(1)(B)(iii).
Family 2nd Preference (Exempt from Country Limitations)
FX1 | Spouse of Lawful Permanent Resident | 202(a)(4)(A) & 203(a)(2)(A).
FX2 | Child of Lawful Permanent Resident | 202(a)(4)(A) & 203(a)(2)(A).
FX3 | Child of FX1 or FX2 | 202(a)(4)(A) & 203(a)(2)(A) & 203(d).
CX1 | Spouse of Lawful Permanent Resident (Conditional) | 202(a)(4)(A) & 203(a)(2)(A) & 216.
CX2 | Child of Lawful Permanent Resident (Conditional) | 202(a)(4)(A) & 203(a)(2)(A) & 216.
CX3 | Child of CX1 or CX2 (Conditional) | 202(a)(4)(A) & 203(a)(2)(A) & 203(d) & 216.
BX1 | Self-petition Spouse of Lawful Permanent Resident | 204(a)(1)(B)(ii).
BX2 | Self-petition Child of Lawful Permanent Resident | 204(a)(1)(B)(iii).
BX3 | Child of BX1 or BX2 | 204(a)(1)(B)(ii) & 203(d).
Family 3rd Preference
F31 | Married Son or Daughter of U.S. Citizen | 203(a)(3).
F32 | Spouse of F31 | 203(d) & 203(a)(3).
F33 | Child of F31 | 203(d) & 203(a)(3).
C31 | Married Son or Daughter of U.S. Citizen (Conditional) | 203(a)(3) & 216.
C32 | Spouse of C31 (Conditional) | 203(d) & 203(a)(3) & 216.
C33 | Child of C31 (Conditional) | 203(d) & 203(a)(3) & 216.
B31 | Self-petition Married Son or Daughter of U.S. Citizen | 204(a)(1)(A)(iv) & 203(a)(3).
B32 | Spouse of B31 | 203(d), 204(a)(1)(A)(iv) & 203(a)(3).
B33 | Child of B31 | 203(d), 204(a)(1)(A)(iv) & 203(a)(3).
Family 4th Preference
F41 | Brother or Sister of U.S. Citizen at Least 21 Years of Age | 203(a)(4).
F42 | Spouse of F41 | 203(d) & 203(a)(4).
F43 | Child of F41 | 203(d) & 203(a)(4).
Employment-Based Preferences
Employment 1st Preference (Priority Workers)
E11 | Alien with Extraordinary Ability | 203(b)(1)(A).
E12 | Outstanding Professor or Researcher | 203(b)(1)(B).
E13 | Multinational Executive or Manager | 203(b)(1)(C).
E14 | Spouse of E11, E12, or E13 | 203(d) & 203(b)(1)(A) & 203(b)(1)(B) & 203(b)(1)(C).
E15 | Child of E11, E12, or E13 | 203(d) & 203(b)(1)(A) & 203(b)(1)(B) & 203(b)(1)(C).
Employment 2nd Preference (Professionals Holding Advanced Degrees or Persons of Exceptional Ability)
E21 | Professional Holding Advanced Degree or Alien of Exceptional Ability | 203(b)(2).
E22 | Spouse of E21 | 203(d) & 203(b)(2).
E23 | Child of E21 | 203(d) & 203(b)(2).
Employment 3rd Preference (Skilled Workers, Professionals, and Other Workers)
E31 | Skilled Worker | 203(b)(3)(A)(i).
E32 | Professional Holding Baccalaureate Degree | 203(b)(3)(A)(ii).
E34 | Spouse of E31 or E32 | 203(d) & 203(b)(3)(A)(i) & 203(b)(3)(A)(ii).
E35 | Child of E31 or E32 | 203(d) & 203(b)(3)(A)(i) & 203(b)(3)(A)(ii).
EW3 | Other Worker (Subgroup Numerical Limit) | 203(b)(3)(A)(iii).
EW4 | Spouse of EW3 | 203(d) & 203(b)(3)(A)(iii).
EW5 | Child of EW3 | 203(d) & 203(b)(3)(A)(iii).
Employment 4th Preference (Certain Special Immigrants)
BC1 | Broadcaster in the U.S. employed by the International Broadcasting Bureau of the Broadcasting Board of Governors or a grantee of such organization | 101(a)(27)(M) & 203(b)(4).
BC2 | Accompanying spouse of BC1 | 101(a)(27)(M) & 203(b)(4).
BC3 | Accompanying child of BC1 | 101(a)(27)(M) & 203(b)(4).
SD1 | Minister of Religion | 101(a)(27)(C)(ii)(I) & 203(b)(4).
SD2 | Spouse of SD1 | 101(a)(27)(C)(ii)(I) & 203(b)(4).
SD3 | Child of SD1 | 101(a)(27)(C)(ii)(I) & 203(b)(4).
SE1 | Certain Employees or Former Employees of the U.S. Government Abroad | 101(a)(27)(D) & 203(b)(4).
SE2 | Spouse of SE1 | 101(a)(27)(D) & 203(b)(4).
SE3 | Child of SE1 | 101(a)(27)(D) & 203(b)(4).
SF1 | Certain Former Employees of the Panama Canal Company or Canal Zone Government | 101(a)(27)(E) & 203 (b)(4).
SF2 | Spouse or Child of SF1 | 101(a)(27)(E) & 203 (b)(4).
SG1 | Certain Former Employees of the U.S. Government in the Panama Canal Zone | 101(a)(27)(F) & 203 (b)(4).
SG2 | Spouse or Child of SG1 | 101(a)(27)(F) & 203 (b)(4).
SH1 | Certain Former Employees of the Panama Canal Company or Canal Zone Government on April 1, 1979 | 101(a)(27)(G) & 203 (b)(4).
SH2 | Spouse or Child of SH1 | 101(a)(27)(G) & 203(b)(4).
SJ1 | Certain Foreign Medical Graduates (Adjustments Only) | 101(a)(27)(H).
SJ2 | Accompanying Spouse or Child of SJ1 | 101(a)(27)(H) & 203(b)(4).
SK1 | Certain Retired International Organization employees | 101(a)(27)(I)(iii) & 203(b)(4).
SK2 | Spouse of SK1 | 101(a)(27)(I)(iv) & 203(b)(4).
SK3 | Certain Unmarried Sons or Daughters of an International Organization Employee | 101(a)(27)(I)(i) & 203(b)(4).
SK4 | Certain Surviving Spouses of a deceased International Organization Employee | 101(a)(27)(I)(ii) & 203(b)(4).
SL1 | Juvenile Court Dependent (Adjustment Only) | 101(a)(27)(J) & 203(b)(4).
SN1 | Certain retired NATO6 civilians | 101(a)(27)(L) & 203(b)(4).
SN2 | Spouse of SN1 | 101(a)(27)(L) & 203(b)(4).
SN3 | Certain unmarried sons or daughters of NATO6 civilian employees | 101(a)(27)(L) & 203(b)(4).
SN4 | Certain surviving spouses of deceased NATO6 civilian employees | 101(a)(27)(L) & 203(b)(4).
SP | Alien Beneficiary of a petition or labor certification application filed prior to September 11, 2001, if the petition or application was rendered void due to a terrorist act of September 11, 2001. Spouse, child of such alien, or the grandparent of a child orphaned by a terrorist act of September 11, 2001 | Section 421 of Public Law 107-56.
SR1 | Certain Religious Workers | 101(a)(27)(C)(ii)(II) & (III) as amended, & 203(b)(4).
SR2 | Spouse of SR1 | 101(a)(27)(C)(ii)(II) & (III) as amended, & 203(b)(4).
SR3 | Child of SR1 | 101(a)(27)(C)(ii)(II) & (III) as amended, & 203(b)(4).
Employment 5th Preference (Employment Creation Conditional Status)
C51 | Employment Creation OUTSIDE Targeted Areas | 203(b)(5)(A).
C52 | Spouse of C51 | 203(d) & 203(b)(5)(A).
C53 | Child of C51 | 203(d) & 203(b)(5)(A).
T51 | Employment Creation IN Targeted Rural/High Unemployment Area | 203(b)(5)(B).
T52 | Spouse of T51 | 203(d) & 203 (b)(5)(B).
T53 | Child of T51 | 203(d) & 203(b)(5)(B).
R51 | Investor Pilot Program, Not in Targeted Area | 203(b)(5) & Sec. 610 of the Departments of Commerce, Justice, and State, the Judiciary and Related Agencies Appropriations Act, 1993 (Pub. L. 102-395), as amended.
R52 | Spouse of R51 | 203(d) & 203(b)(5) & Sec. 610 of the Departments of Commerce, Justice, and State, the Judiciary and Related Agencies Appropriations Act, 1993 (Pub. L. 102-395), as amended.
R53 | Child of R51 | 203(d) & 203(b)(5) & Sec. 610 of the Departments of Commerce, Justice, and State, the Judiciary and Related Agencies Appropriations Act, 1993 (Pub. L. 102-395), as amended.
I51 | Investor Pilot Program, in Targeted Area | 203(b)(5) & Sec. 610 of the Departments of Commerce, Justice, and State, the Judiciary and Related Agencies Appropriations Act, 1993 (Pub. L. 102-395), as amended.
I52 | Spouse of I51 | 203(d) & 203(b)(5) & Sec. 610 of the Departments of Commerce, Justice, and State, the Judiciary and Related Agencies Appropriations Act, 1993 (Pub. L. 102-395), as amended.
I53 | Child of I51 | 203(d) & 203(b)(5) & Sec. 610 of the Departments of Commerce, Justice, and State, the Judiciary and Related Agencies Appropriations Act, 1993 (Pub. L. 102-395), as amended.
Other Numerically Limited Categories
Diversity Immigrants
DV1 | Diversity Immigrant | 203(c).
DV2 | Spouse of DV1 | 203(d) & 203(c).
DV3 | Child of DV1 | 203(d) & 203(c).

November 16, 2009.
Michael D. Kirby,
Acting Assistant Secretary for Consular Affairs, Department of State.

[FR Doc. E9-28277 Filed 11-24-09; 8:45 am]

BILLING CODE 4710-06-P